NUCLEAR REGULATORY COMMISSION

[Docket No. 050-133; NRC-2009-0541]

Pacific Gas and Electric, Humboldt Bay Power Plant, Unit 3; Environmental Assessment and Finding of No Significant Impact for an Exemption From Certain Control and Tracking Requirements in 10 CFR Part 20 Appendix G Section III.E

The U.S. Nuclear Regulatory Commission (NRC) is considering issuance of an exemption from certain control and tracking requirements in 10 CFR part 20 appendix G section III.E for Facility Operating License No. DPR-7 issued to Pacific Gas and Electric (PG&E or the licensee), for Humboldt Bay Power Plant (HBPP) Unit 3, located in Humboldt County, California.

Environmental Assessment

Identification of Proposed Action

The proposed action is in accordance with the licensee's application for an exemption dated September 4, 2009. The licensee has requested an exemption from certain control and tracking requirements in 10 CFR part 20 appendix G section III.E, which require the licensee to investigate, and file a report with the NRC, if shipments of low-level radioactive waste are not acknowledged by the intended recipient within 20 days after transfer to the shipper.

The proposed action would grant an exemption to extend the time period that can elapse during shipments of low-level radioactive waste before the licensee is required to investigate and file a report with the NRC. Specifically, the exemption would extend the time period for the licensee to receive acknowledgment that the low-level radioactive waste shipment has been received by the intended recipient from 20 days to 45 days.

The Need for the Proposed Action

PG&E is in the process of decommissioning HBPP Unit 3. During the decommissioning process, large volumes of slightly contaminated debris are generated and require disposal. PG&E transports low-level radioactive waste from HBPP Unit 3 to distant locations such as a waste disposal facility operated by Energy Solutions in Clive, Utah, and waste processors in Tennessee.

The licensee's request to extend the 20-day investigation and reporting requirements for shipments of low-level radioactive waste to 45 days is based on historical data derived from experience at Southern California Edison Company's San Onofre Nuclear Generating Station (SONGS). That experience indicates that rail transportation time to waste disposal facilities frequently exceeded the 20-day reporting requirement. A review of the SONGS data indicates that transportation time for shipments by rail or truck/rail took over 16 days on average and, on occasion, took up to 57 days. HBPP is in a more remote location than SONGS and is not near a railhead. Shipping from HBPP may require a combination of truck/rail, barge/rail or barge/truck shipments. These mixed-mode shipments will be comprised of truck and barge shipments from HBPP to inland locations in California or nearby states, followed by rail shipments to the waste disposal facilities or processors. The additional step of transloading material at a remote railyard (e.g., unloading and loading, waiting for the train to depart) is expected to add to shipping delays that exceed the time of shipments from SONGS.

The licensee affirms that the low-level radioactive waste shipments will always be tracked throughout transportation until they arrive at their intended destination. The licensee believes, and the staff agrees, that the need to investigate, trace, and report to the NRC on the shipment of low-level waste packages not reaching their destination within 20 days does not serve the underlying purpose of the rule. Therefore, the NRC staff finds that granting an exemption to extend the time period from 20 days to 45 days for mixed-mode shipments of low-level radioactive waste will not result in an undue hazard to life or property.

Environmental Impacts of the Proposed Action

The NRC has reviewed the licensee's proposed exemption request and concluded that the proposed exemption is procedural and administrative in nature.

The proposed action will not significantly increase the probability or consequences of accidents, no changes are being made in the types of any effluents that may be released offsite, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Agencies and Persons Contacted

In accordance with NRC policy, on November 2, 2009, the staff consulted with a State of California official in the Radiologic Health Services, State Department of Health Services, regarding the environmental impact of the proposed action. The state official had no comments.

Finding of No Significant Impact

On the basis of the environmental assessment, the NRC concludes that the proposed action will not have a significant effect on the quality of the human environment. Accordingly, the NRC has determined not to prepare an environmental impact statement for the proposed action.

Dated at Rockville, Maryland this 1st day of December 2009.
For the Nuclear Regulatory Commission.
Keith I. McConnell,
Deputy Director, Decommissioning and Uranium Recovery Licensing Directorate, Division of Waste Management and Environmental Protection, Office of Federal and State Materials and Environmental Management Programs.

[FR Doc. E9-29327 Filed 12-8-09; 8:45 am]

BILLING CODE 7590-01-P